DEPARTMENT OF COMMERCE

National Oceanic and Atmospheric Administration

RIN 0648-XW93

Pacific Fishery Management Council; Public Meeting

AGENCY: National Marine Fisheries Service (NMFS), National Oceanic and Atmospheric Administration (NOAA), Commerce.

ACTION: Notice of a public meeting.

SUMMARY: The Pacific Fishery Management Council (Pacific Council) will hold a meeting of its Ad Hoc Regulatory Deeming Workgroup (Workgroup). The meeting is open to the public.

DATES: The Workgroup meeting will be held Wednesday, June 30, 2010, from 8 a.m. until business for the day is completed and Thursday, July 1, 2010 from 8 a.m. until business for the day is completed.

ADDRESSES: The Workgroup meeting will be held at the Hotel Deca, 4507 Brooklyn Avenue, Seattle WA 98105, in the College Room; telephone: 1-800-899-0251

Council address: Pacific Fishery Management Council, 7700 NE Ambassador Place, Suite 101, Portland, OR 97220-1384.

FOR FURTHER INFORMATION CONTACT: Mr. Jim Seger, Staff Officer; telephone: 503- 820-2280.

SUPPLEMENTARY INFORMATION: The purpose of the Workgroup meeting is to review the draft regulations that would implement Amendment 20 (Trawl Rationalization) to the groundfish fishery management plan, if it is approved.

Although non-emergency issues not contained in the meeting agenda may come before the Workgroup for discussion, those issues may not be the subject of formal Workgroup action during this meeting. Workgroup action will be restricted to those issues specifically listed in this notice and any issues arising after publication of this notice that require emergency action under Section 305(a) of the Magnuson-Stevens Fishery Conservation and Management Act, provided the public has been notified of the Workgroup intent to take final action to address the emergency.

Special Accommodations

This meeting is physically accessible to people with disabilities. Requests for sign language interpretation or other auxiliary aids should be directed to Ms. Carolyn Porter at 503-820-2280 at least 5 days prior to the meeting date.

Dated: June 9, 2010.
Tracey L. Thompson,
Acting Director, Office of Sustainable Fisheries, National Marine Fisheries Service.

[FR Doc. 2010-14154 Filed 6-11-10; 8:45 am]

BILLING CODE 3510-22-S